DEPARTMENT OF TRANSPORTATION

Federal Aviation Administration

14 CFR Part 95

[Docket No. 30895; Amdt. No. 506]

IFR Altitudes; Miscellaneous Amendments

AGENCY: Federal Aviation Administration (FAA), DOT.

ACTION: Final rule.

SUMMARY: This amendment adopts miscellaneous amendments to the required IFR (instrument flight rules) altitudes and changeover points for certain Federal airways, jet routes, or direct routes for which a minimum or maximum en route authorized IFR altitude is prescribed. This regulatory action is needed because of changes occurring in the National Airspace System. These changes are designed to provide for the safe and efficient use of the navigable airspace under instrument conditions in the affected areas.

DATES: Effective 0901 UTC, May 2, 2013.

FOR FURTHER INFORMATION CONTACT: Rick Dunham, Flight Procedure Standards Branch (AMCAFS-420), Flight Technologies and Programs Division, Flight Standards Service, Federal Aviation Administration, Mike Monroney Aeronautical Center, 6500 South MacArthur Blvd., Oklahoma City, OK 73169 (Mail Address: P.O. Box 25082, Oklahoma City, OK 73125) telephone: (405) 954-4164.

SUPPLEMENTARY INFORMATION: This amendment to part 95 of the Federal Aviation Regulations (14 CFR part 95) amends, suspends, or revokes IFR altitudes governing the operation of all aircraft in flight over a specified route or any portion of that route, as well as the changeover points (COPs) for Federal airways, jet routes, or direct routes as prescribed in part 95.

The Rule

The specified IFR altitudes, when used in conjunction with the prescribed changeover points for those routes, ensure navigation aid coverage that is adequate for safe flight operations and free of frequency interference. The reasons and circumstances that create the need for this amendment involve matters of flight safety and operational efficiency in the National Airspace System, are related to published aeronautical charts that are essential to the user, and provide for the safe and efficient use of the navigable airspace. In addition, those various reasons or circumstances require making this amendment effective before the next scheduled charting and publication date of the flight information to assure its timely availability to the user. The effective date of this amendment reflects those considerations. In view of the close and immediate relationship between these regulatory changes and safety in air commerce, I find that notice and public procedure before adopting this amendment are impracticable and contrary to the public interest and that good cause exists for making the amendment effective in less than 30 days.

Conclusion

The FAA has determined that this regulation only involves an established body of technical regulations for which frequent and routine amendments are necessary to keep them operationally current. It, therefore—(1) is not a “significant regulatory action” under Executive Order 12866; (2) is not a “significant rule” under DOT Regulatory Policies and Procedures (44 FR 11034; February 26, 1979); and (3) does not warrant preparation of a regulatory evaluation as the nticipated impact is so minimal. For the same reason, the FAA certifies that this amendment will not have a significant economic impact on a substantial number of small entities under the criteria of the Regulatory Flexibility Act.

List of Subjects in 14 CFR Part 95

Airspace, Navigation (air).

Issued in Washington, DC, on March 29, 2013.
John M. Allen,
Deputy Director, Flight Standards Service.

Adoption of the Amendment

Accordingly, pursuant to the authority delegated to me by the Administrator, part 95 of the Federal Aviation Regulations (14 CFR part 95) is amended as follows effective at 0901 UTC, May 2, 2013.

PART 95 [AMENDED]

1. The authority citation for part 95 continues to read as follows:

Authority: 49 U.S.C. 106(g), 40103, 40106, 40113, 40114, 40120, 44502, 44514, 44719, 44721.

2. Part 95 is amended to read as follows:

Revisions to IFR Altitudes § Changeover Points
[Amendment 506 effective date May 02, 2013]
From | To | MEA
§ 95.6001 Victor Routes-U.S.
§ 95.6001 VOR Federal Airway V1 Is Amended To Read in Part
ASHES, NC FIX | YOAST, NC FIX | *5000
*2100—MOCA |  |
YOAST, NC FIX | WALLO, NC FIX | *7000
*1600—MOCA |  |
WALLO, NC FIX | KINSTON, NC VORTAC |
| NE BND | 2000
| SW BND | 7000
§ 95.6002 VOR Federal Airway V2 Is Amended To Read in Part
*SEATTLE, WA VORTAC | VAMPS, WA FIX |
| E BND | **8400
| W BND | **4000
*4300—MCA SEATTLE, WA VORTAC, E BND |  |
**3100—MOCA |  |
**5300—GNSS MEA |  |
VAMPS, WA FIX | BANDR, WA FIX |
| E BND | *8400
| W BND | *7700
*7700—GNSS MEA |  |
BANDR, WA FIX | *BEEZR, WA FIX | 8400
*9000—MRA |  |
§ 95.6003 VOR Federal Airway V3 Is Amended To Read in Part
DOLPHIN, FL VORTAC | FORT LAUDERDALE, FL VOR/DME | 2100
FORT LAUDERDALE, FL VOR/DME | PALM BEACH, FL VORTAC | #2000
#FORT LAUDERDALE R-013 UNUSABLE, USE PALM BEACH R-190
§ 95.6004 VOR Federal Airway V4 Is Amended To Read in Part
LOFAL, WA FIX | *SEATTLE, WA VORTAC | **4000
*6200—MCA SEATTLE, WA VORTAC, E BND |  |
**2800—MOCA |  |
SEATTLE, WA VORTAC | BLAKO, WA FIX |
| E BND | *10000
| W BND | *4000
*3100—MOCA |  |
BLAKO, WA FIX | HUMPP, WA FIX |
| E BND | *10000
| W BND | *6600
*6600—MOCA |  |
§ 95.6025 VOR Federal Airways V25 Is Amended To Read in Part
SALINAS, CA VORTAC | SANTY, CA FIX | *5000
*4000—MOCA |  |
WOODSIDE, CA VORTAC | SAN FRANCISCO, CA VOR/DME | 4700
§ 95.6029 VOR Federal Airways V29 Is Amended To Read in Part
DUPONT, DE VORTAC | MODENA, PA VORTAC | *3000
*1800—MOCA |  |
*2000—GNSS MEA |  |
§ 95.6068 VOR Federal Airways V68 Is Amended To Read in Part
JUNCTION, TX VORTAC | CENTER POINT, TX VORTAC | 4000
CENTER POINT, TX VORTAC | SAN ANTONIO, TX VORTAC | 4100
§ 95.6087 VOR Federal Airways V87 Is Amended To Read in Part
PANOCHE, CA VORTAC | SALINAS, CA VORTAC | 6200
SALINAS, CA VORTAC | SANTY, CA FIX | *5000
*4000—MOCA |  |
WOODSIDE, CA VORTAC | SAN FRANCISCO, CA VOR/DME | 4700
§ 95.6088 VOR Federal Airways V88 Is Amended To Read in Part
NARCI, OK FIX | *WACCO, MO FIX | **6200
*3700—MRA |  |
*6200—MCA WACCO, MO FIX, SW BND |  |
**3100—MOCA |  |
**4000—GNSS MEA |  |
*WACCO, MO FIX | *QUALM, MO FIX | **3700
*3700—MRA |  |
**3000—MOCA |  |
QUALM, MO FIX | *MIRTH, MO FIX | 3000
*3700—MRA |  |
*MIRTH, MO FIX | SPRINGFIELD, MO VORTAC | 3000
*3700—MRA |  |
§ 95.6094 VOR Federal Airways V94 Is Amended To Read in Part
BYPAS, TX FIX | *HYMAN, TX FIX | **6000
*5000—MRA |  |
**4400—MOCA |  |
*HYMAN, TX FIX | TUSCOLA, TX VOR/DME | **7500
*5000—MRA |  |
**4200—MOCA |  |
§ 95.6104 VOR Federal Airways V104 Is Amended To Read in Part
MALAE, NY FIX | *PLATTSBURGH, NY VORTAC | **7000
*4600—MCA PLATTSBURGH, NY VORTAC, NW BND |  |
**6100—MOCA |  |
**6100—GNSS MEA |  |
PLATTSBURGH, NY VORTAC | *BURLINGTON, VT VOR/DME | 2600
*5000—MCA BURLINGTON, VT VOR/DME, SE BND |  |
BURLINGTON, VT VOR/DME | MONTPELIER, VT VOR/DME | 6300
MONTPELIER, VT VOR/DME | AYZOO, NH FIX | 5400
AYZOO, NH FIX | BERLIN, NH VOR/DME | *7000
*6400—MOCA |  |
§ 95.6124 VOR Federal Airways V124 Is Amended To Read in Part
HOT SPRINGS, AR VOR/DME | LITTLE ROCK, AR VORTAC | 3000
§ 95.6168 VOR Federal Airways V168 Is Amended To Read in Part
MILER, AL FIX | WIREGRASS, AL VORTAC | *6000
*2400—MOCA |  |
*3000—GNSS MEA |  |
§ 95.6170 VOR Federal Airways V170 Is Amended To Read in Part
MODENA, PA VORTAC | DUPONT, DE VORTAC | *3000
*1800—MOCA |  |
*2000—GNSS MEA |  |
§ 95.6184 VOR Federal Airways V184 Is Amended To Read in Part
HARRISBURG, PA VORTAC | *DELRO, PA FIX | 3000
*10000—MRA |  |
§ 95.6190 VOR Federal Airways V190 Is Amended To Read in Part
MITBEE, OK VORTAC | CARON, OK FIX |
| SW BND | *5000
| NE BND | *8000
*3700—MOCA |  |
CARON, OK FIX | FIRET, OK FIX | *8000
*2800—MOCA |  |
FIRET, OK FIX | PIONEER, OK VORTAC |
| E BND | 3000
| W BND | 8000
BARTLESVILLE, OK VOR/DME | OSWEGO, KS VORTAC | 2700
OSWEGO, KS VORTAC | *WACCO, MO FIX | 3100
*3700—MRA |  |
WACCO, MO FIX | *QUALM, MO FIX | **3700
*3700—MRA |  |
**3000—MOCA |  |
QUALM, MO FIX | *MIRTH, MO FIX | 3000
*3700—MRA |  |
MIRTH, MO FIX | SPRINGFIELD, MO VORTAC | 3000
§ 95.6216 VOR Federal Airways V216 Is Amended To Read in Part
SAGINAW, MI VOR/DME | PECK, MI VORTAC | 3000
PECK, MI VORTAC | U.S. CANADIAN BORDER | *5000
*2200-MOCA |  |
§ 95.6234 VOR Federal Airways V234 Is Amended To Read in Part
FLACK, KS FIX | KRIER, KS FIX | *5000
*4000—MOCA |  |
KRIER, KS FIX | BYWAY, KS FIX | *7100
*4000—MOCA |  |
BYWAY, KS FIX | GABIE, KS FIX | *4300
*3600—MOCA |  |
GABIE, KS FIX | HUTCHINSON, KS VOR/DME | 3800
§ 95.6241 VOR Federal Airways V241 Is Amended To Read in Part
WIREGRASS, AL VORTAC | EUFAULA, AL VORTAC | *3000
*2000—MOCA |  |
*WIREGRASS R-019 UNSABLE BELOW 6000 USE EUFAULA R-199 |  |
§ 95.6267 VOR Federal Airways V267 Is Amended To Read in Part
PAHOKEE, FL VORTAC | DIDDY, FL FIX | *2000
*1500—MOCA |  |
DIDDY, FL FIX | ORLANDO, FL VORTAC | 2700
§ 95.6269 VOR Federal Airways V269 Is Amended To Read in Part
WELLS, NV VOR | *TWIN FALLS, ID VORTAC | **13000
*7700—MCA TWIN FALLS, ID VORTAC, S BND |  |
**11000—MOCA |  |
**11000—GNSS MEA |  |
§ 95.6276 VOR Federal Airways V276 Is Amended To Read In Part
*HIKES, PA FIX | YARDLEY, PA VOR/DME | **4000
*4000—MRA |  |
**2400—MOCA |  |
§ 95.6295 VOR Federal Airways V295 Is Amended To Read in Part
TREASURE, FL VORTAC | BAIRN, FL FIX | 2600
BAIRN, FL FIX | ORLANDO, FL VORTAC | 2700
§ 95.6298 VOR Federal Airways V298 Is Amended To Read in Part
*SEATTLE, WA VORTAC | VAMPS, WA FIX |
| W BND | **4000
| E BND | **8400
*4300—MCA SEATTLE, WA VORTAC, E BND |  |
**3100—MOCA |  |
**5300—GNSS MEA |  |
VAMPS, WA FIX | BANDR, WA FIX |
| E BND | *8400
| W BND | *7700
*7700—GNSS MEA |  |
BANDR, WA FIX | *BEEZR, WA FIX | 8400
*9000—MRA |  |
§ 95.6392 VOR Federal Airways V392 Is Amended To Read in Part
SACRAMENTO, CA VORTAC | ROZZY, CA FIX | *3500
*2300—MOCA |  |
§ 95.6474 VOR Federal Airways V474 Is Amended To Read in Part
NOENO, PA FIX | *DELRO, PA FIX | **5000
*10000—MRA |  |
**3400—MOCA |  |
**3400—GNSS MEA |  |
§ 95.6479 VOR Federal Airways V479 Is Amended To Read in Part
DUPONT, DE VORTAC | WILJR, NJ FIX | 2100
WILJR, NJ FIX | MENGE, NJ FIX | *4000
*1600—MOCA |  |
*2000—GNSS MEA |  |
MENGE, NJ FIX | YARDLEY, PA VOR/DME | 2000
§ 95.6494 VOR Federal Airways V494 Is Amended To Read in Part
SANTA ROSA, CA VOR/DME | *RAGGS, CA FIX | 5100
*8500—MRA |  |
*RAGGS, CA FIX | SACRAMENTO, CA VORTAC | 5100
*8500—MRA |  |
SACRAMENTO, CA VORTAC | ROZZY, CA FIX | *3500
*2300—MOCA |  |
§ 95.6531 VOR Federal Airways V531 Is Amended To Read in Part
*SHEDS, FL FIX | **BAIRN, FL FIX | ***6000
*3000—MRA |  |
**6000—MCA BAIRN, FL FIX, SE BND |  |
**2000—MOCA |  |
BAIRN, FL FIX | ORLANDO, FL VORTAC | 2700
§ 95.6537 VOR Federal Airways V537 Is Amended To Read in Part
CERMO, FL FIX | OCALA, FL VORTAC |
| NW BND | 2000
| SE BND | 8000
§ 95.6573 VOR Federal Airways V573 Is Amended To Read in Part
HOT SPRINGS, AR VOR/DME | LITTLE ROCK, AR VORTAC | 3000
§ 95.7001 Jet Routes
§ 95.7037 Jet Route J37 Is Amended To Read in Part
SPARTANBURG, SC VORTAC | LYNCHBURG, VA VORTAC | #

Airway segment: From | Airway segment: To | Changeover points: Distance | Changeover points: From
§ 95.8003 VOR Federal Airways Changeover Points
V124 Is Amended To Add Changeover Point
HOT SPRINGS, AR VOR/DME | LITTLE ROCK, AR VORTAC | 14 | HOT SPRINGS
V187 Is Amended To Modify Changeover Point
MISSOULA, MT VOR/DME | NEZ PERCE, ID VOR/DME | 30 | MISSOULA
V2 Is Amended To Add Changeover Point
ELLENSBURG, WA VORTAC | MOSES LAKE, WA VOR/DME | 28 | ELLENSBURG
V290 Is Amended To Delete Changeover Point
TAR RIVER, NC VORTAC | PAMLICO/DCMSND, NC NDB/DME | 44 | TAR RIVER
V494 Is Amended To Add Changeover Point
SANTA ROSA, CA VOR/DME | SACRAMENTO, CA VORTAC | 25 | SANTA ROSA
ALASKA V317 Is Amended To Modify Changeover Point
ANNETTE ISLAND, AK VOR/DME ISLAND | LEVEL ISLAND, AK VOR/DME | 64 | ANNETTE
LEVEL ISLAND, AK VOR/DME | SISTERS ISLAND, AK VORTAC | 74 | LEVEL ISLAND
# UNUSABLE.

[FR Doc. 2013-08081 Filed 4-5-13; 8:45 am]

BILLING CODE 4910-13-P